DEPARTMENT OF COMMERCE

Foreign-Trade Zones Board

[Order No. 1866]

Reorganization of Foreign-Trade Zone 41 (Expansion of Service Area), Under Alternative Site Framework; Milwaukee, WI

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Port of Milwaukee, grantee of Foreign-Trade Zone 41, submitted an application to the Board (FTZ Docket B-40-2012, filed 5/21/2012) for authority to expand the service area of the zone to include Dodge, Fond du Lac, Jefferson, Ozaukee, Rock, Sheboygan, Walworth, Washington and Waukesha Counties, Wisconsin, adjacent to the Milwaukee, Wisconsin Customs and Border Protection ports of entry, and the grantee proposes two additional usage-driven sites (Sites 12 and 13);

Whereas, notice inviting public comment was given in the Federal Register (77 FR 31307-31308, 5/25/12) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize FTZ 41 to expand the service area under the alternative site framework is approved, subject to the FTZ Act and the Board's regulations, including Section 400.13, and to the Board's standard 2,000-acre activation limit for the zone, and to a three-year ASF sunset provision for usage-driven sites that would terminate authority for Sites 12 and 13 if no foreign-status merchandise is admitted for a bona fide customs purpose by November 30, 2015.

Signed at Washington, DC, this 5th day of November 2012.
Paul Piquado,
Assistant Secretary of Commerce for Import Administration, Alternate Chairman, Foreign-Trade Zones Board.
Attest:
Andrew McGilvray,
Executive Secretary.

[FR Doc. 2012-27980 Filed 11-16-12; 8:45 am]

BILLING CODE P